DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alaska: Fairbanks North Star County (FEMA Docket No.: B-2123). | Fairbanks North Star Borough (20-10-0898P). | The Honorable Bryce Ward, Mayor, Fairbanks North Star Borough, P.O. Box 71267, Fairbanks, AK 99709. | Community Planning Department, Juanita Helms Administration Center 907 Terminal Street, Fairbanks, AK 99701. | Jul. 6, 2021 | 025009
Arizona:
Apache (FEMA Docket No.: B-2140). | Town of Eagar (21-09-0424P). | The Honorable Bryce Hamblin, Mayor, Town of Eagar 22 West 2nd Street, Eagar, AZ 85925. | Public Works Department, 1162 South Water Canyon Road, Eagar, AZ 85925. | Jul. 21, 2021 | 040103
Maricopa (FEMA Docket No.: B-2132). | City of Glendale (20-09-1036P). | The Honorable Jerry Weiers, Mayor, City of Glendale, 5850 West Glendale Avenue, Glendale, AZ 85301. | City Hall, 5850 West Glendale Avenue, Glendale, AZ 85301. | May 7, 2021 | 040045
Maricopa (FEMA Docket No.: B-2132). | City of Peoria (20-09-1050P). | The Honorable Cathy Carlat, Mayor, City of Peoria, 8401 West Monroe Street, Peoria, AZ 85345. | City Hall, 8401 West Monroe Street, Peoria, AZ 85345. | Jul. 16, 2021 | 040050
Maricopa (FEMA Docket No.: B-2140). | City of Peoria (20-09-2036P). | The Honorable Cathy Carlat Mayor, City of Peoria 8401 West Monroe Street Peoria, AZ 85345. | City Hall 8401 West Monroe Street Peoria, AZ 85345. | Sep. 3, 2021 | 040050
Maricopa (FEMA Docket No.: B-2140). | City of Peoria (20-09-2066P). | The Honorable Cathy Carlat, Mayor, City of Peoria, 8401 West Monroe Street, Peoria, AZ 85345. | City Hall, 8401 West Monroe Street, Peoria, AZ 85345. | Aug. 20, 2021 | 040050
Maricopa (FEMA Docket No.: B-2132). | City of Phoenix (20-09-1036P). | The Honorable Kate Gallego, Mayor, City of Phoenix, 200 West Washington Street, 11th Floor, Phoenix, AZ 85003. | Street Transportation Department, 200 West Washington Street, 5th Floor, Phoenix, AZ 85003. | May 7, 2021 | 040051
Maricopa (FEMA Docket No.: B-2140). | City of Surprise (20-09-2202P). | The Honorable Skip Hall Mayor, City of Surprise, 16000 North Civic Center Plaza, Surprise, AZ 85374. | Public Works Department Engineering Development Services, 16000 North Civic Center Plaza, Surprise, AZ 85374. | Aug. 6, 2021 | 040053
Maricopa (FEMA Docket No.: B-2140). | Unincorporated Areas of Maricopa County (20-09-2036P). | The Honorable Jack Sellers, Chairman, Board of Supervisors Maricopa County, 301 West Jefferson Street, 10th Floor, Phoenix, AZ 85003. | Flood Control District Maricopa County, 2801 West Durango Street, Phoenix, AZ 85009. | Sep. 3, 2021 | 040037
Maricopa (FEMA Docket No.: B-2140). | Unincorporated Areas of Maricopa County (20-09-2202P). | The Honorable Jack Sellers, Chairman, Board of Supervisors Maricopa County, 301 West Jefferson Street, 10th Floor, Phoenix, AZ 85003. | Flood Control District of Maricopa County, 2801 West Durango Street, Phoenix, AZ 85009. | Aug. 6, 2021 | 040037
Maricopa (FEMA Docket No.: B-2123). | Unincorporated Areas of Maricopa County (21-09-0221P). | The Honorable Jack Sellers, Chairman, Board of Supervisors Maricopa County, 301 West Jefferson Street, 10th Floor, Phoenix, AZ 85003. | Flood Control District of Maricopa County, 2801 West Durango Street, Phoenix, AZ 85009. | Jun. 18, 2021 | 040037
Mohave (FEMA Docket No.: B-2123). | City of Bullhead City (20-09-1910P). | The Honorable Tom Brady, Mayor, City of Bullhead City, 2355 Trane Road, Bullhead City, AZ 86442. | Public Works Department, 2355 Trane Road, Bullhead City, AZ 86442. | Jul. 9, 2021 | 040125
Pinal (FEMA Docket No.: B-2132). | City of Maricopa (20-09-0399P). | The Honorable Christian Price, Mayor, City of Maricopa, 39700 West Civic Center Plaza, Maricopa, AZ 85138. | City Hall, 39700 West Civic Center Plaza, Maricopa, AZ 85138. | May 21, 2021 | 040052
Pinal (FEMA Docket No.: B-2132). | Town of Florence (20-09-1409P). | The Honorable Tara Walter, Mayor, Town of Florence, P.O. Box 2670, Florence, AZ 85132. | Public Works Department, 224 West 20th Street, Florence, AZ 85132. | May 28, 2021 | 040084
Pinal (FEMA Docket No.: B-2140). | Town of Superior (20-09-1494P). | The Honorable Mila Besich-Lira, Mayor, Town of Superior, 199 North Lobb Avenue, Superior, AZ 85173. | Town Hall, 199 North Lobb Avenue, Superior, AZ 85173. | Aug. 5, 2021 | 040119
Pinal (FEMA Docket No.: B-2132). | Unincorporated Areas of Pinal County (20-09-0399P). | The Honorable Stephen Q. Miller, Chairman, Board of Supervisors, Pinal County, P.O. Box 827, Florence, AZ 85132. | Pinal County Engineering Division, 31 North Pinal Street Building F, Florence, AZ 85132. | May 21, 2021 | 040077
Pinal (FEMA Docket No.: B-2140). | Unincorporated Areas of Pinal County (20-09-1494P). | The Honorable Stephen Q. Miller, Chairman, Board of Supervisors, Pinal County, P.O. Box 827, Florence, AZ 85132. | Pinal County Engineering Division, 31 North Pinal Street Building F, Florence, AZ 85132. | Aug. 5, 2021 | 040077
Pima (FEMA Docket No.: B-2123). | Town of Oro Valley (20-09-1981P). | The Honorable Joe Winfield, Mayor, Town of Oro Valley, Town Hall, 11000 North La Cañada Drive, Oro Valley, AZ 85737. | Planning and Zoning Department, 11000 North La Cañada Drive, Oro Valley, AZ 85737. | Jun. 23, 2021 | 040109
Pima (FEMA Docket No.: B-2123). | Unincorporated Areas of Pima County (20-09-1981P). | The Honorable Sharon Bronson, Chairman, Board of Supervisors, Pima County, 130 West Congress Street, 11th Floor, Tucson, AZ 85701. | Pima County Flood Control District, 201 North Stone Avenue, 9th Floor, Tucson, AZ 85701. | Jun. 23, 2021 | 040073
Santa Cruz (FEMA Docket No.: B-2123). | Unincorporated Areas of Santa Cruz County (20-09-0530P). | The Honorable Manuel Ruiz, Chairman, Board of Supervisors, Santa Cruz County, 2150 North Congress Drive #119, Nogales, AZ 85621. | Santa Cruz County Flood Control District, Gabilondo-Zehentner Building, 275 Rio Rico Drive, Rio Rico, AZ 85648. | May 5, 2021 | 040090
Santa Cruz (FEMA Docket No.: B-2123). | Unincorporated Areas of Santa Cruz County (20-09-0547P). | The Honorable Manuel Ruiz, Chairman, Board of Supervisors, Santa Cruz County, 2150 North Congress Drive #119, Nogales, AZ 85621. | Santa Cruz County Flood Control District, Gabilondo-Zehentner Building, 275 Rio Rico Drive, Rio Rico, AZ 85648. | May 5, 2021 | 040090
California:
Fresno (FEMA Docket No.: B-2123). | City of Clovis (20-09-2182P). | The Honorable Drew Bessinger, Mayor, City of Clovis, 1033 5th Street, Clovis, CA 93612. | City Clerk's Office, Civic Center, 1033 5th Street, Clovis, CA 93612. | Jun. 21, 2021 | 060044
Kern (FEMA Docket No.: B-2132). | City of Delano (21-09-0119P). | The Honorable Bryan Osorio, Mayor, City of Delano, 1015 11th Avenue, Delano, CA 93215. | Community Development, 1015 11th Avenue, Delano, CA 93215. | Jun. 1, 2021 | 060078
Kern (FEMA Docket No.: B-2132). | Unincorporated Areas of Kern County (21-09-0119P). | The Honorable Phillip Peters, Chairman, Board of Supervisors, Kern County, 115 Truxtun Avenue, 5th Floor, Bakersfield, CA 93301. | Kern County Planning Department, 2700 M Street, Suite 100, Bakersfield, CA 93301. | Jun. 1, 2021 | 060075
Nevada (FEMA Docket No.: B-2123). | City of Grass Valley (20-09-0976P). | The Honorable Ben Aguilar, Mayor, City of Grass Valley, 125 East Main Street, Grass Valley, CA 95945. | Public Works Department, 125 East Main Street, Grass Valley, CA 95945. | Apr. 30, 2021 | 060211
Riverside (FEMA Docket No.: B-2123). | City of Banning (20-09-2180P). | The Honorable Colleen Wallace, Mayor, City of Banning, 99 East Ramsey Street, Banning, CA 92220. | Public Works Department, 99 East Ramsey Street, Banning, CA 92220. | May 28, 2021 | 060246
Riverside (FEMA Docket No.: B-2140). | City of Corona (20-09-0482P). | The Honorable Jacque Casillas, Mayor, City of Corona, 400 South Vicentia Avenue, Corona, CA 92882. | City Hall, 400 South Vicentia Avenue, Corona, CA 92882. | Sep. 14, 2021 | 060250
San Diego (FEMA Docket No.: B-2123). | City of San Diego (20-09-1465P). | The Honorable Todd Gloria, Mayor, City of San Diego, 202 C Street, 11th Floor, San Diego, CA 92101. | Development Services Department, 1222 1st Avenue, MS 301, San Diego, CA 92101. | Jul. 1, 2021 | 060295
San Diego (FEMA Docket No.: B-2132). | Unincorporated Areas of San Diego County (20-09-2083P). | The Honorable Nathan Fletcher, Chairman, Board of Supervisors, San Diego County, 1600 Pacific Highway, Room 335, San Diego, CA 92101. | San Diego County Flood Control District, Department of Public Works, 5510 Overland Avenue, Suite 410, San Diego, CA 92123. | Jul. 19, 2021 | 060284
Santa Barbara (FEMA Docket No.: B-2132). | City of Goleta (21-09-0037P). | The Honorable Paula Perotte, Mayor, City of Goleta, 130 Cremona Drive, Suite B, Goleta, CA 93117. | City Hall, Planning and Environmental Review Department, 130 Cremona Drive Suite B, Goleta, CA 93117. | Jun. 3, 2021 | 060771
Santa Barbara (FEMA Docket No.: B-2132). | City of Santa Barbara (20-09-0769P). | The Honorable Cathy Murillo, Mayor, City of Santa Barbara, City Hall, 735 Anacapa Street, Santa Barbara, CA 93101. | Community Development Department, Building and Safety Division, 630 Garden Street, Santa Barbara, CA 93101. | Jul. 20, 2021 | 060335
Santa Barbara (FEMA Docket No.: B-2132). | City of Santa Barbara (21-09-0037P). | The Honorable Cathy Murillo, Mayor, City of Santa Barbara, City Hall, 735 Anacapa Street, Santa Barbara, CA 93101. | Community Development Department, Building and Safety Division, 630 Garden Street, Santa Barbara, CA 93101. | Jun. 3, 2021 | 060335
Idaho:
Ada (FEMA Docket No.: B-2132). | City of Kuna (20-10-0884P). | The Honorable Joe Stear, Mayor, City of Kuna, City Hall, 751 West 4th Street, Kuna, ID 83634. | City Hall, 329 West 3rd Street, Kuna, ID 83642. | Jul. 22, 2021 | 160174
Ada (FEMA Docket No.: B-2132). | City of Meridian (20-10-1391P). | The Honorable Robert Simison, Mayor, City of Meridian, Meridian City Hall, 33 East Broadway Avenue, Suite 300, Meridian, ID 83642. | Public Works Department, 33 East Broadway Avenue, Suite 200, Meridian, ID 83642. | Jul. 26, 2021 | 160180
Ada (FEMA Docket No.: B-2132). | Unincorporated Areas of Ada County (20-10-0884P). | Mr. Rod Beck, Chairman, Ada County Board of County Commissioners, Ada County Courthouse, 200 West Front Street, 3rd Floor, Boise, ID 83702. | Ada County Courthouse, 200 West Front Street, Boise, ID 83702. | Jul. 22, 2021 | 160001
Ada (FEMA Docket No.: B-2132). | Unincorporated Areas of Ada County (20-10-1391P). | Mr. Rod Beck, Chairman, Ada County Board of County Commissioners, Ada County Courthouse, 200 West Front Street, 3rd Floor, Boise, ID 83702. | Ada County Courthouse, 200 West Front Street, Boise, ID 83702. | Jul. 26, 2021 | 160001
Blaine (FEMA Docket No.: B-2140). | City of Ketchum (20-10-0739P). | The Honorable Neil Bradshaw, Mayor, City of Ketchum, P.O. Box 2315, Ketchum, ID 83340. | City Hall, 480 East Avenue North, Ketchum, ID 83340. | Sep. 2, 2021 | 160023
Blaine (FEMA Docket No.: B-2140). | Unincorporated Areas of Blaine County (20-10-0739P). | Ms. Angenie McCleary, Vice Chair, Blaine County Commissioners, 206 1st Avenue South Suite 300, Hailey, ID 83333. | Blaine County Planning & Zoning, 219 1st Avenue South, Suite 208, Hailey, ID 83333. | Sep. 2, 2021 | 165167
Blaine (FEMA Docket No.: B-2132). | Unincorporated Areas of Blaine County (20-10-1303P). | Mr. Jacob Greenberg, Chairman, Board of County Commissioners, Blaine County, 206 South 1st Avenue Suite 300, Hailey, ID 83333. | Blaine County Planning & Zoning, 219 South lst Avenue, Suite 208, Hailey, ID 83333. | Jul. 29, 2021 | 165167
Bonneville (FEMA Docket No.: B-2123). | City of Ammon (20-10-0225P). | The Honorable Sean Coletti, Mayor, City of Ammon, City Hall, 2135 South Ammon Road, Ammon, ID 83406. | City Hall, 2135 South Ammon Road, Ammon, ID 83406. | Oct. 9, 2020 | 160028
Bonneville (FEMA Docket No.: B-2123). | Unincorporated Areas of Bonneville County (20-10-0225P). | The Honorable Roger Christensen, Chairman, Bonneville County, 605 North Capital Avenue, Idaho Falls, ID 83402. | Bonneville County Courthouse, 605 North Capital Avenue, Idaho Falls, ID 83402. | Oct. 9, 2020 | 160027
Illinois:
Kane (FEMA Docket No.: B-2147). | Unincorporated Areas of Kane County (21-05-0452P). | The Honorable Corinne Pierog, Chairman, Kane County Board, Kane County Government Center, 719 South Batavia Avenue, Building A, Geneva, IL 60134. | Kane County Government Center, Water Resources Department, 719 South Batavia Avenue, Building A, Geneva, IL 60134. | Sep. 10, 2021 | 170896
Kane (FEMA Docket No.: B-2140). | Village of Montgomery (21-05-0213P). | The Honorable Matthew Brolley, Village President, Village of Montgomery, 200 North River Street, Montgomery, IL 60538. | Village Hall, 200 North River Street, Montgomery, IL 60538. | Sep. 10, 2021 | 170328
Kane (FEMA Docket No.: B-2147). | Village of Pingree Grove (21-05-0452P). | The Honorable Steve Wiedmeyer, Village President, Village of Pingree Grove, 555 Reinking Road, Pingree Grove, IL 60140. | Village Hall, 555 Reinking Road, Pingree Grove, IL 60140. | Sep. 10, 2021 | 171078
Indiana:
Lake (FEMA Docket No.: B-2132). | City of Crown Point (20-05-3995P). | The Honorable David Uran, Mayor, City of Crown Point, 101 North East Street, Crown Point, IN 46307. | City Hall, 101 North East Street, Crown Point, IN 46307. | Jul. 23, 2021 | 180128
Noble (FEMA Docket No.: B-2132). | Unincorporated Areas of Noble County (21-05-0893P). | The Honorable Gary Leatherman, President, Noble County Board of Commissioners, Noble County Courthouse, 101 North Orange Street, Albion, IN 46701. | Noble County South Complex, 2090 North State Road 9, Suite 2, Albion, IN 46701. | Jul. 23, 2021 | 180183
Iowa: Polk (FEMA Docket No.: B-2132). | City of Urbandale (21-07-0009P). | The Honorable Bob Andeweg, Mayor, City of Urbandale, City Hall, 3600 86th Street, Urbandale, IA 50322. | City Hall, 3600 86th Street, Urbandale, IA 50322. | Jul. 26, 2021 | 190230
Kansas:
Johnson (FEMA Docket No.: B-2123). | City of Olathe (20-07-1546P). | The Honorable John Bacon, Mayor, City of Olathe, P.O. Box 768, Olathe, KS 66051. | City Hall, Olathe Planning Office, 100 West Santa Fe Drive, Olathe, KS 66061. | Jun. 17, 2021 | 200173
Johnson (FEMA Docket No.: B-2140). | City of Shawnee (20-07-0627P). | The Honorable Michelle Distler, Mayor, City of Shawnee, City Hall, 11110 Johnson Drive, Shawnee, KS 66203. | City Hall, 11110 Johnson Drive, Shawnee, KS 66203. | Sep. 1, 2021 | 200177
Sedgwick (FEMA Docket No.: B-2123). | City of Wichita (19-07-1328P). | The Honorable Brandon Whipple, Mayor, City of Wichita, City Hall, 455 North Main Street, 1st Floor, Wichita, KS 67202. | Office of Storm Water Management, 455 North Main Street, 8th Floor, Wichita, KS 67202. | Jun. 24, 2021 | 200328
Sedgwick (FEMA Docket No.: B-2123). | Unincorporated Areas of Sedgwick County (19-07-1328P). | Mr. Pete Meitzner, Chairman, 1st District Commissioner, Sedgwick County, 525 North Main Street, Suite 320, Wichita, KS 67203. | Sedgwick County Metropolitan Area, Building and Construction Department, 1144 South Seneca Street, Wichita, KS 67213. | Jun. 24, 2021 | 200321
Minnesota: Anoka (FEMA Docket No.: B-2123). | City of Blaine (20-05-3678P). | The Honorable Tim Sanders, Mayor, City of Blaine, City Hall, 10801 Town Square Drive Northeast, Blaine, MN 55449. | City Hall, 10801 Town Square Drive Northeast, Blaine, MN 55449. | Jun. 21, 2021 | 270007
Nebraska: Lancaster (FEMA Docket No.: B-2123). | City of Lincoln (20-07-1451P). | The Honorable Leirion Gaylor Baird, Mayor, City of Lincoln, 555 South 10th Street, Lincoln, NE 68508. | Building & Safety Department, 555 South 10th Street, Lincoln, NE 68508. | Jul. 5, 2021 | 315273
Nevada:
Clark (FEMA Docket No.: B-2132). | City of Henderson (20-09-1687P). | The Honorable Debra March, Mayor, City of Henderson, 240 South Water Street, Henderson, NV 89015. | Public Works Department, 240 South Water Street, Henderson, NV 89015. | Apr. 29, 2021 | 320005
Elko (FEMA Docket No.: B-2140). | City of Elko (20-09-1987P). | The Honorable Reece Keener, Mayor, City of Elko, 1751 College Avenue, Elko, NV 89801. | City Hall, 1751 College Avenue, Elko, NV 89801. | Aug. 5, 2021 | 320010
Washoe (FEMA Docket No.: B-2140). | City of Reno (21-09-0352P). | The Honorable Hillary Schieve, Mayor, City of Reno, 1 East 1st Street, Reno, NV 89501. | City Hall, 1 East 1st Street, Reno, NV 89501. | Aug. 10, 2021 | 320020
Washoe (FEMA Docket No.: B-2140). | Unincorporated Areas of Washoe County (21-09-0352P). | The Honorable Bob Lucey, Chairman, Board of Commissioners, Washoe County, 1001 East 9th Street, Reno, NV 89512. | Washoe County Administration Building, Department of Public Works, 1001 East 9th Street, Reno, NV 89512. | Aug. 10, 2021 | 320019
New Jersey: Morris (FEMA Docket No.: B-2123). | Borough of Lincoln Park (21-02-0107P). | The Honorable David A. Runfeldt, Mayor, Borough of Lincoln Park, 34 Chapel Hill Road, Lincoln Park, NJ 07035. | Borough Building Department, 34 Chapell Hill Road, Lincoln Park, NJ 07035. | Jun. 29, 2021 | 345300
New York:
Westchester (FEMA Docket No.: B-2132). | City of Rye (20-02-1384P). | The Honorable Josh Cohn, Mayor, City of Rye, City Hall, 1051 Boston Post Road, Rye, NY 10580. | City Hall, 1051 Boston Post Road, Rye, NY 10580. | Sep. 24, 2021 | 360931
Westchester (FEMA Docket No.: B-2123). | Village of Mamaroneck (20-02-1481P). | The Honorable Thomas A. Murphy, Mayor, Village of Mamaroneck, 123 Mamaroneck Avenue, Mamaroneck, NY 10543. | Building Inspector, The Regatta Building, 123 Mamaroneck Avenue, Mamaroneck, NY 10543. | Aug. 24, 2021 | 360916
Ohio:
Fairfield (FEMA Docket No.: B-2140). | City of Lancaster (21-05-0317P). | The Honorable David L. Scheffler, Mayor, City of Lancaster, 104 East Main Street, Room 101, Lancaster, OH 43130. | City Building Department, 121 East Chestnut Street, Lancaster, OH 43130. | Sep 8, 2021 | 390161
Fairfield (FEMA Docket No.: B-2140). | Unincorporated Areas of Fairfield County (21-05-0317P). | Mr. Dave Levacy, Commissioner, Fairfield County Commissioners, 210 East Main Street, Room 301, Lancaster, OH 43130. | Fairfield County Regional Planning Commission, 210 East Main Street, Room 104, Lancaster, OH 43130. | Sep 8, 2021 | 390158
Oregon:
Lane (FEMA Docket No.: B-2123). | City of Cottage Grove (20-10-0681P). | The Honorable Jeff Gowing, Mayor, City of Cottage Grove, 337 North 9th Street, Cottage Grove, OR 97424. | City Hall, 400 East Main Street, Cottage Grove, OR 97424. | Jun. 25, 2021 | 410120
Lane (FEMA Docket No.: B-2140). | City of Eugene (20-10-1089P). | The Honorable Lucy Vinis, Mayor, City of Eugene, 101 West 10th Avenue, 2nd Floor, Eugene, OR 97401. | Planning Department, 99 West 10th Avenue, Eugene, OR 97401. | Aug. 18, 2021 | 410122
Lane (FEMA Docket No.: B-2140). | Unincorporated Areas of Lane County (20-10-1089P). | Ms. Heather Buch, Commissioner, Board of County Commissioners, Lane County, Public Service Building, 125 East 8th Avenue, Eugene, OR 97401. | Lane County, Customer Service Center, 3050 North Delta Highway, Eugene, OR 97408. | Aug. 18, 2021 | 415591
Texas:
Dallas (FEMA Docket No.: B-2123). | City of Grand Prairie (20-06-2268P). | The Honorable Ron Jensen, Mayor, City of Grand Prairie, P.O. Box 534045, Grand Prairie, TX 75053. | Community Development Center, 206 West Church Street, Grand Prairie, TX 75050. | Jun. 21, 2021 | 485472
Dallas (FEMA Docket No.: B-2123). | City of Irving (20-06-2268P). | The Honorable Rick Stopfer, Mayor, City of Irving, 825 West Irving Boulevard, Irving, TX 75060. | Capital Improvement Development Program, 825 West Irving Boulevard, Irving, TX 75060. | Jun. 21, 2021 | 480180
Hunt (FEMA Docket No.: B-2132). | City of Greenville (20-06-2492P). | The Honorable David Dreiling, Mayor, City of Greenville, 2821 Washington Street, Greenville, TX 75401. | City Hall, 2821 Washington Street, Greenville, TX 75401. | Jul. 14, 2021 | 485473
Washington:
King (FEMA Docket No.: B-2140). | City of Kent (21-10-0511P). | The Honorable Dana Ralph, Mayor, City of Kent, 220 4th Avenue South, Kent, WA 98032. | City Hall, 220 4th Avenue South, Kent, WA 98032. | Aug. 27, 2021 | 530080
Yakima (FEMA Docket No.: B-2140). | City of Yakima (20-10-1163P). | The Honorable Patricia Byers, Mayor, City of Yakima, 129 North 2nd Street, Yakima, WA 98901. | City Hall, 129 North 2nd Street, Yakima, WA 98901. | Sep. 7, 2021 | 530311
Yakima (FEMA Docket No.: B-2140). | Unincorporated Areas of Yakima County (20-10-1163P). | Mr. Ron Anderson, District 2 Commissioner Yakima County, 128 North 2nd Street, Room 232, Yakima, WA 98901. | Yakima County Public Services, 128 North 2nd Street, Yakima, WA 98901. | Sep. 7, 2021 | 530217
Wisconsin:
Brown (FEMA Docket No.: B-2132). | Unincorporated Areas of Brown County (20-05-2406P). | Mr. Troy Streckenbach, County Executive, Brown County, P.O. Box 23600, Green Bay, WI 54305. | Zoning Office, 305 East Walnut Street, Green Bay, WI 54301. | Aug. 2, 2021 | 550020
Brown (FEMA Docket No.: B-2140). | Village of Hobart (21-05-0115P). | Mr. Rich Heidel, President, Village of Hobart, 2990 South Pine Tree Road, Hobart, WI 54155. | Village Hall, 2456 Glendale Avenue, Green Bay, WI 54313. | Sep. 6, 2021 | 550626
Brown (FEMA Docket No.: B-2132). | Village of Pulaski (20-05-2406P). | The Honorable Reed A. Woodward, Mayor, Village of Pulaski, P.O. Box 320, Pulaski, WI 54162. | Village Hall, 421 South St. Augustine Street, Pulaski, WI 54162. | Aug. 2, 2021 | 550024
La Crosse (FEMA Docket No.: B-2132). | Unincorporated Areas of La Crosse County (21-05-0431P). | Ms. Monica Kruse, Chair, La Crosse County Board, Administrative Center, 212 6th Street North, La Crosse, WI 54601. | La Crosse County Administration Center, 400 4th Street North, Room 3260, La Crosse, WI 54601. | Aug. 5, 2021 | 550217
Ozaukee (FEMA Docket No.: B-2140). | City of Cedarburg (19-05-5425P). | The Honorable Mike O'Keefe, Mayor, City of Cedarburg, W63 N645 Washington Avenue, Cedarburg, WI 53012. | City Hall, W63 N645 Washington Avenue, Cedarburg, WI 53012. | Aug. 25, 2021 | 550312
Ozaukee (FEMA Docket No.: B-2140). | Unincorporated Areas of Ozaukee County (19-05-5425P). | Mr. Lee Schlenvogt, Chairperson, Ozaukee County Board, 121 West Main Street, Port Washington, WI 53074. | Ozaukee County Administration Center, 121 West Main Street, Port Washington, WI 53074. | Aug. 25, 2021 | 550310
Ozaukee (FEMA Docket No.: B-2140). | Village of Grafton (19-05-5425P). | Mr. James A. Brunnquell, Village President, Village of Grafton, 860 Badger Circle, Grafton, WI 53024. | Village Hall, 1971 Washington Street, Grafton, WI 53024. | Aug. 25, 2021 | 550314
Waukesha (FEMA Docket No.: B-2123). | Village of Sussex (20-05-1875P). | Mr. Anthony LeDonne, Village President, Village of Sussex, Sussex Civic Center, N64 W23760 Main Street, Sussex, WI 53089. | Village Hall, N64 W23760 Main Street, Sussex, WI 53089. | Mar. 18, 2021 | 550490

[FR Doc. 2021-24404 Filed 11-8-21; 8:45 am]

BILLING CODE 9110-12-P